INTERNATIONAL TRADE COMMISSION

Sunshine Act Meeting

AGENCY HOLDING THE MEETING: United States International Trade Commission.

TIME AND DATE: July 18, 2000 at 10:00 a.m.

PLACE: Room 101, 500 E Street SW., Washington, DC 20436, Telephone: (202) 205-2000.

STATUS: Open to the public.

MATTERS TO BE CONSIDERED:

1. Agenda for future meeting: none.

2. Minutes.

3. Ratification List.

4. Inv. Nos. 731-TA-639-640 (Review)(Forged Stainless Steel Flanges from India and Taiwan)—briefing and vote. (The Commission is currently scheduled to transmit its determination to the Secretary of Commerce on July 26, 2000.)

5. Inv. No. 731-TA-663 (Review)(Paper Clips from China)—briefing and vote. (The Commission is currently scheduled to transmit its determination to the Secretary of Commerce on July 28, 2000.)

6. Outstanding action jackets: none.

In accordance with Commission policy, subject matter listed above, not disposed of at the scheduled meeting, may be carried over to the agenda of the following meeting.

Issued: July 11, 2000.
By order of the Commission.
Donna R. Koehnke,
Secretary.

[FR Doc. 00-17989 Filed 7-12-00; 10:43 am]

BILLING CODE 7020-02-P